FEDERAL DEPOSIT INSURANCE CORPORATION

Sunshine Act Meeting; Notice of Meeting To Be Held With Less Than Seven Days Advance Notice

TIME AND DATE: 10:00 a.m. on Tuesday, January 19, 2021.

PLACE: The meeting was held via video conference on the internet and was webcast to the public.

MATTERS TO BE CONSIDERED: Pursuant to the provisions of the Government in the Sunshine Act, notice is hereby given that the Federal Deposit Insurance Corporation's Board of Directors met in open session at 10:00 a.m. on Tuesday, January 19, 2021, to consider the following matters:

Summary Agenda

Disposition of Minutes of a Board of Directors' Meeting Previously Distributed.

Memorandum and resolution re: Final Rule on Role of Supervisory Guidance.

Memorandum and resolution re: Notice of Proposed Rule on Rescission and Removal of Transferred OTS Regulations, Definitions for Regulations Affecting All State Savings Associations (Part 390 Subpart Q).

Memorandum and resolution re: Notice of Proposed Rulemaking on Removal of Transferred OTS Regulations Regarding Securities Offerings of State Savings Associations, Rescission of Statement of Policy on the Use of Offering Circulars, Proposed Rulemaking Regarding Securities Offerings by State Nonmember Banks and State Savings Associations, and Other, Technical Amendments.

Report of actions taken pursuant to authority delegated by the Board of Directors.

Discussion Agenda

Memorandum and resolution re: Revisions to the FDIC's Guidelines for Appeals of Material Supervisory Determinations.

In calling the meeting, the Board determined, on motion of Director Martin J. Gruenberg, seconded by Director Kathleen Kraninger (Director, Consumer Financial Protection Bureau), concurred in by Director Blake Paulson (Acting Comptroller of the Currency), and Chairman Jelena McWilliams, that Corporation business required its consideration of the matters on less than seven days' notice to the public; and that no earlier notice of the meeting than that previously provided on January 15, 2021, was practicable.

Dated this the 19th day of January, 2021.
Federal Deposit Insurance Corporation.
James P. Sheesley,
Assistant Executive Secretary.

[FR Doc. 2021-01544 Filed 1-19-21; 4:15 pm]

BILLING CODE 6714-01-P